DEPARTMENT OF TRANSPORTATION

National Highway Traffic Safety Administration

[NHTSA-2006-23700]

Reports, Forms, and Recordkeeping Requirements; Agency Information Collection Activity Under OMB Review

AGENCY: National Highway Traffic Safety Administration (NHTSA), Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on March 2, 2006 (71 FR 10753).

DATES: Comments must be received on or before June 12, 2006.

FOR FURTHER INFORMATION CONTACT: Allison Rusnak, Office of Chief Counsel, NCC-110, telephone (202) 366-1834, fax (202) 366-3820; NHTSA, 400 Seventh Street, SW., Washington, DC 20590.

SUPPLEMENTARY INFORMATION: Title: Motorcyclist Safety Grant Program.

OMB Control Number: N/A.

Requested Expiration Date of Approval: Three years from the approval date.

Type of Request: New collection.

Affected Public: State Governments.

Form Number: HS-217.

Abstract: Section 2010 of the Safe, Accountable, Flexible, Efficient Transportation Equity Act: A Legacy for Users (SAFETEA-LU), Public Law 109-59, authorizes a grant program for States that adopt and implement effective motorcycle safety programs. Eligibility for the section 2010 grants is based on 6 grant criteria: (1) Motorcycle Rider Training Courses; (2) Motorcyclists Awareness Program; (3) Reduction of Fatalities and Crashes Involving Motorcycles; (4) Impaired Driving Program; (5) Reduction of Fatalities and Accidents Involving Impaired Motorcyclists; and (6) Fees Collected from Motorcyclists. To qualify for a section 2010 grant for the first fiscal year the State seeks to qualify, it must demonstrate compliance with at least 1 of the 6 grant criteria. To qualify for a section 2010 grant for the second and subsequent fiscal years it seeks to qualify, a State must demonstrate compliance with at least 2 of the 6 grant criteria.

The information collected for this grant program is to include application submissions and various reporting requirements. A State that seeks to qualify in the first fiscal year must submit an application containing information demonstrating that it satisfies 1 of the 6 grant criteria. For the second and subsequent fiscal years that it seeks to qualify, a State must submit an application containing information demonstrating that it satisfies 2 of the 6 grant criteria.

A State's application would identify under which of the 6 grant criteria it intends to qualify for a section 2010 grant. With respect to each of the criteria selected, the proposed rule would require certain submissions from the State.

A State that receives grant funds also must indicate to NHTSA how it intends to expend grant funds for each fiscal year and how grant funds were expended each fiscal year. It is important for NHTSA to be notified about these activities so that it can effectively administer the grant program and account for the expenditure of funds. To reduce burdens, A State will document these activities largely by making use of mechanisms that have received PRA clearance for other similar highway safety programs. A State will first notify NHTSA of its obligation of funds in accordance with the applicable provisions of SAFETEA-LU by submitting a Program Cost Summary (HS-217), a form with existing PRA clearance, within 30 days of the award notification. A State will also report to NHTSA, as part of its annual Highway Safety Plan under 23 U.S.C. 402, on how it intends to expend grant funds for each fiscal year. This reporting requirement, however, will not be a significant extra burden for the States because they are already required by statute to submit an annual Highway Safety Plan. Finally, a State that receives grants funds must submit each fiscal year, as part of the Annual Report for its highway safety program pursuant to 23 CFR 1200.33, a report indicating how grant funds were expended and identifying the programs carried out with the grant funds. Again, this reporting requirement will not be a significant extra burden for the States because they are already required by regulation to submit an Annual Report for their highway safety program.

Estimated Annual Burden: 1,560 hours.

Estimated Number of Respondents: 52 (fifty States, the District of Columbia, and Puerto Rico).

ADDRESSES: Send comments, within 30 days, to the Office of Information and Regulatory Affairs, Office of Management and Budget, 725 17th Street, NW., Washington, DC 20503, Attention NHTSA Desk Officer.

The comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Issued on May 8, 2006.
John Donaldson,
Assistant Chief Counsel for Legislation and General Law.

[FR Doc. E6-7234 Filed 5-11-06; 8:45 am]

BILLING CODE 4910-59-P